DEPARTMENT OF LABOR

Employment and Training Administration

[TA-W-71,542]

City Service Cleaners, Lenoir, NC; Notice of Termination of Investigation

Pursuant to Section 223 of the Trade Act of 1974, as amended, an investigation was initiated in response to a petition filed on July 2, 2009, by a company official on behalf of workers of City Service Cleaners, Lenoir, North Carolina.

The petitioner has failed to cooperate with the investigation and the Department has been unable to locate company officials of the subject firm who are able to provide the information necessary to reach a determination on worker group eligibility. Consequently, further investigation in this case would serve no purpose, and the investigation has been terminated.

Signed at Washington, DC, this 15th day of January, 2010.
Del Min Amy Chen,
Certifying Officer, Division of Trade Adjustment Assistance.

[FR Doc. 2010-5351 Filed 3-11-10; 8:45 am]

BILLING CODE 4510-FN-P